DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve proposed updates to the approved information collection project “Safety Program in Perinatal Care (SPPC)-II Demonstration Project.”

DATES: Comments on this notice must be received by May 4, 2021.

ADDRESSES: Written comments should be submitted to: Doris Lefkowitz, Reports Clearance Officer, AHRQ, by email at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

Safety Program in Perinatal Care (SPPC)-II Demonstration Project

The SPPC-II Demonstration Project has the following goals:

(1) To implement the integrated Alliance for Innovation on Maternal Health (AIM)-SPPC II program in birthing hospitals in Oklahoma and Texas in coordination with AIM and the respective state PQC (Perinatal Quality Collaborative);

(2) To assess the implementation of the integrated AIM-SPPC II program in these hospitals; and

(3) To ascertain the short- and medium-term impact of the integrated AIM-SPPC II program on hospital (i.e., perinatal unit) teamwork and communication, patient safety, and key maternal health outcomes.

This study is being conducted by AHRQ through its contractor, Johns Hopkins University (JHU) and the AIM program, JHU's subcontractor, pursuant to AHRQ's statutory authority to conduct and support research on healthcare and on systems for the delivery of such care, including activities with respect to the quality, effectiveness, efficiency, appropriateness and value of healthcare services and with respect to quality measurement and improvement. 42 U.S.C. 299a (a)(1) and (2).

Due to continued pandemic-related impacts on the SPPC-II study population, we propose to update the SPPC-II data collection by (1) restructuring and adding questions to the approved qualitative interview guides to be used with AIM program Team Leads and now frontline health providers in the summer/fall of 2021 to include questions to better understand the perceived implementation context; and (2) adding focus group discussions in the summer/fall of 2022 to assess perceptions of implementation and sustainability of the SPPC-II Toolkit at the hospital level The total burden hours resulting from these proposed updates to the SPPC-II data collection is 64 hours. The total estimated annual burden hours for SPPC-II are 54,693.

Method of Collection

To achieve the goals of this project the following updates to the data collections will be implemented:

(a) Qualitative, semi-structured interviews with AIM Team Leads and frontline staff will be conducted by phone or via zoom in the summer/fall of 2021 to assess the perceived utility of the training and the perceived implementation context (including barriers, facilitators, and strategies) in the context of a reduced scope for SPCC-II. In 8 hospitals, one-hour interviews with AIM Team Leads (1 per hospital) and 30-minute interviews with frontline staff (4 per hospital) will be conducted. An interview guide developed based on the Consolidated Framework for Implementation Research framework will be used to conduct the interviews, together with a corresponding consent form. The interview guide will be supported by the SPPC-II tier level training specific handouts.

(b) Focus group discussions with AIM Team Leads and frontline staff will be conducted by phone or via zoom in the summer/fall of 2022 to assess perceptions of implementation and sustainability of the SPPC-II Toolkit at the hospital level. We will conduct one 1-hour focus groups with AIM Team Leads and frontline staff in each of the 8 hospitals. An interview guide developed based on the Consolidated Framework for Implementation Research framework will be used to conduct the interviews, together with a corresponding consent form.

Estimated Annual Respondent Burden

Exhibit 1 shows only the estimated annualized burden hours for the respondents' time to participate in updates to the information collection of the SPPC-II Demonstration Project.

One-hour qualitative interviews will be conducted with a total of 8 AIM Team Leads and 30-minute qualitative interviews with 32 frontline staff in 8 hospitals. We will also conduct 8 one-hour focus group discussions with a total of 40 AIM Team Leads and frontline staff in the same hospitals.

The total burden hours resulting from the proposed updates to the SPPC-II data collection is 64 hours. The total annual burden hours are estimated to be 54,693 hours.

Exhibit 1—Estimated Annualized Burden Hours
Form name | Number of respondents | Number of responses per respondent | Hours per response | Total burden hours
Qualitative semi-structured interviews with AIM Team Leads | 8 | 1 | 1.00 | 8
Qualitative semi-structured interviews with frontline staff | 32 | 1 | 0.50 | 16
Focus group discussions with AIM Team Leads and frontline staff | 40 | 1 | 1 | 40
Total | 80 | NA | NA | 64

Exhibit 2 shows only the hours and cost of updates to the collection. The total cost burden of the updated collection is estimated to be $1,421,576.68 annually.

Exhibit 2—Estimated Annualized Cost Burden
Form name | Number of respondents | Total burden hours | Average hourly wage rate * | Total cost burden
Qualitative semi-structured interviews with AIM Team Leads | 8 | 8 | $49.83 | $398.64
Qualitative semi-structured interviews with frontline staff | 32 | 16 | 49.83 | 797.28
Focus group discussions with AIM Team Leads and frontline staff | 40 | 40 | 49.83 | 1,993.20
Total | 80 | 64 |  | $3,189.12
* National Compensation Survey: Occupational wages in the United States May 2017 “U.S. Department of Labor, Bureau of Labor Statistics.” Weighted mean hourly wage for obstetrician-gynecologists ($113.10; occupation code 29-1064; 30%); nurse-midwives ($49.83; occupation code 29-1161; 30%); registered nurses ($35.36; occupation code 29-1161; 20%); and nurse practitioners ($51.86; occupation code 29-1171; 20%).

Request for Comments

In accordance with the Paperwork Reduction Act, 44 U.S.C. 3501-3520, comments on AHRQ's information collection are requested with regard to any of the following: (a) Whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: March 1, 2021.
Marquita Cullom,
Associate Director.

[FR Doc. 2021-04502 Filed 3-4-21; 8:45 am]

BILLING CODE 4160-90-P